DEPARTMENT OF COMMERCE

National Oceanic and Atmospheric Administration

50 CFR Part 622

[I.D. 051600A]

Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on its proposed Amendment 7 to the Fishery Management Plan for the Stone Crab Fishery of the Gulf of Mexico (FMP). Amendment 7 proposes to extend Florida's trap certificate program for the commercial stone crab fishery into Federal waters off the west coast of Florida. The objective of this program is to reduce, over time, the number of traps used in the fishery to an optimum number necessary to harvest the maximum sustainable yield (MSY).

DATES: The Council will accept written comments on the proposed amendment through June 26, 2000. The public hearings will be held in June. See SUPPLEMENTARY INFORMATION for specific dates and times of the public hearings.

ADDRESSES: Written comments should be sent to Wayne E. Swingle, Executive Director, Gulf of Mexico Fishery Management Council, 3018 U.S. Highway 301, North, Suite 1000, Tampa, Florida 33619. Copies of draft Amendment 7 are available from Mr. Wayne Swingle, Executive Director, Senior Fishery Biologist, Gulf of Mexico Fishery Management Council, 3018 U.S. Highway 301, North, Suite 1000, Tampa, Florida 33619; telephone: 813-228-2815; fax: 813-769-4520. See SUPPLEMENTARY INFORMATION for specific hearing locations.

FOR FURTHER INFORMATION CONTACT: Mr. Wayne Swingle, Executive Director, Senior Fishery Biologist, Gulf of Mexico Fishery Management Council, 3018 U.S. Highway 301, North, Suite 1000, Tampa, Florida 33619; telephone: 813-228-2815.

SUPPLEMENTARY INFORMATION: There are about 1.4 million stone crab traps off Florida; the Florida Fish & Wildlife Conservation Commission (FFWCC) estimates that it would take only 600,000 traps to take the MSY from this fishery. The FFWCC, after working with the stone crab industry and Council over the past 4 years, has adopted a rule, effective July 1, 2000, under which a State trap certificate program will gradually reduce the number of traps over a 30-year period. This is a certificate-based attrition program that “grandfathers” fishermen into the program with their present number of traps and then will reduce slowly the trap numbers to the optimum level by reducing the number of certificates whenever they are sold. The Florida Legislature recently authorized license and penalty fees for this certificate program.

Time and Location for Public Hearings

Public hearings for Amendment 7 will be held at the following locations, dates, and times.

1. June 6, 2000, 7 p.m., Naples Depot Civic Cultural Center, 1051 Fifth Avenue South, Naples, Florida 34102; telephone: 941-262-1776.

2. June 7, 2000, 7 p.m., Banana Bay Resort & Marina, 4590 Overseas Highway, Marathon, Florida 33050; telephone: 305-743-3500.

3. June 13, 2000, 7 p.m., Jaycee Building, 501 SE 7th Avenue, Crystal River, Florida 34429; telephone: 352-795-4217.

4. June 14, 2000, 7 p.m., Steinhatchee Elementary School, 1st Avenue South, Steinhatchee, Florida 32359; telephone: 352-498-3303.

The Council will also hear public testimony before taking final action on Amendment 7 on July 12, 2000, at its meeting in Key Largo, Florida.

Special Accommodations

These meetings are physically accessible to people with disabilities. Requests for sign language interpretation or other auxiliary aids should be directed to Anne Alford at the Council office (see ADDRESSES) by May 30, 2000.

Dated: May 19, 2000.
Bruce Moorehead,
Acting Director, Office of Sustainable Fisheries, National Marine Fisheries Service.

[FR Doc. 00-13187 Filed 5-24-00; 8:45 am]

BILLING CODE 3510-22-U